DEPARTMENT OF HEALTH AND HUMAN SERVICES

Health Resources and Services Administration

National Advisory Council on the National Health Service Corps; Notice of Meeting

In accordance with section 10(a)(2) of the Federal Advisory Committee Act (Pub. L. 92-463), notice is hereby given of the following Federal advisory committee meeting. The meeting will be open to the public.

Name: National Advisory Council on the National Health Service Corps

Date and Time: January 29, 2004; 5 p.m.-7 p.m. January 30, 2004; 8:30 a.m.-5 p.m. January 31, 2004; 9 a.m. to 5:30 p.m. February 1, 2004; 8 a.m.-10:30 a.m.

Place: Sheraton Premier at Tysons Corner, 8661 Leesburg Pike, Vienna, Virginia 22182, (703) 448-1234.

Agenda: The Council will be meeting in conjunction with the 2004 National Health Service Corps Placement Cycle Conference. This meeting will provide an opportunity to meet with program participants and gain greater understanding of the placement process.

For Further Information Contact: Tira Robinson, Division of National Health Service Corps, Bureau of Health Professions, Health Resources and Services Administration, Parklawn Building, Room 8A-55, 5600 Fishers Lane, Rockville, Maryland 20857, telephone (301) 594-4140.

Dated: December 16, 2003.
Tina M. Cheatham,
Acting Director, Division of Policy Review and Coordination.

[FR Doc. 03-31427 Filed 12-19-03; 8:45 am]

BILLING CODE 4165-15-P